DEPARTMENT OF THE INTERIOR

Bureau of Land Management

[BLM_HQ_FRN_MO4500169907]

Notice of Use Authorizations; Special Recreation Permits, Other Than on Developed Recreation Sites; Adjustment in Fees

AGENCY: Bureau of Land Management, Interior.

ACTION: Notice of fee adjustments.

SUMMARY: The Bureau of Land Management (BLM) is adjusting certain Special Recreation Permit (SRP) fees for various recreation activities on BLM-managed public lands and related waters. The BLM is adjusting the minimum fee for commercial, competitive, and organized group activities and events, and assigned sites.

FOR FURTHER INFORMATION CONTACT: Cory Roegner, Division of Recreation and Visitor Services, telephone: (385) 258-0496, email: croegner@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: 43 CFR 2932.31 authorizes the BLM Director to periodically adjust SRP fees. This notice establishes that, effective immediately: (i) the minimum fee for commercial use is $130 per year (an increase from $115); (ii) the minimum fee for both competitive events and organized group activities is $7 per person per day (an increase from $6) or $130 (an increase from $115), whichever is greater; and (iii) the minimum fee for an assigned site for exclusive use is $260 per site (an increase from $230). Individual states have the option of imposing application fees as a matter of cost recovery and/or establishing higher minimum fees for certain other SRPs. The next fee adjustment is scheduled for March 1, 2026.

The intended effect of the fee calculation process is to ensure fees cover administrative costs of permit issuance, provide a fair return to the U.S. Government for use of the public lands, and reflect fair market value. The BLM, in coordination with the U.S. Forest Service, automatically adjusts the minimum commercial, competitive, organized group activity SRP fees, and minimum assigned site fees every 3 years.

These fees are calculated and adjusted based on the change in the Implicit Price Deflator-Gross Domestic Product Index (IPD-GDP). The IPD-GDP is available from the U.S. Department of Commerce, Bureau of Economic Analysis in Table 1.1.9, at the following website: http://www.bea.gov/iTable/.

(Authority: 43 U.S.C. 1740, 16 U.S.C. 6802, and 43 CFR 2932.31.)

Troy Frost,
Deputy Assistant Director, National Conservation Lands and Community Partnerships.

[FR Doc. 2023-09694 Filed 5-5-23; 8:45 am]

BILLING CODE 4331-30-P